DEPARTMENT OF LABOR

Employment and Training Administration

[TA-W-85,808]

Jones Apparel US LLC, Lawrenceburg, Tennessee; Notice of Negative Determination Regarding Application for Reconsideration

By application dated March 10, 2015, workers requested administrative reconsideration of the Department of Labor's negative determination regarding eligibility to apply for worker adjustment assistance, applicable to workers and former workers of Jones Apparel US LLC, Lawrenceburg, Tennessee. The denial notice was signed on February 12, 2015, and the Notice of Determination was published in the Federal Register on March 18, 2015 (80 FR 14166).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at Jones Apparel US LLC, Lawrenceburg, Tennessee was based on the firm not producing an article within the meaning of Section 222(a) or Section 222(b) of the Act. In order to be considered eligible to apply for adjustment assistance under Section 223 of the Trade Act of 1974, the worker group seeking certification (or on whose behalf certification is being sought) must work for a “firm” or appropriate subdivision that produces an article. The definition of a firm includes an individual proprietorship, partnership, joint venture, association, corporation (including a development corporation), business trust, cooperative, trustee in bankruptcy, and receiver under decree of any court.

In the request for reconsideration the petitioner, the petitioner did not supply facts not previously considered; nor provide additional documentation indicating that there was either (1) a mistake in the determination of facts not previously considered or (2) a misinterpretation of facts or of the law justifying reconsideration of the initial determination. Based on these findings, the Department determines that 29 CFR 90.18(c) has not been met.

The original investigation confirmed that the workers' firm did not produce an article. Rather, the workers' firm supplied services related to the supply of warehousing, distribution, quality control, and retail services. The investigation confirmed that production of the firm's apparel product lines occurs outside of the United States.

Conclusion

After careful review of the application and investigative findings, I conclude that there has been no error or misinterpretation of the law or of the facts which would justify reconsideration of the Department of Labor's prior decision. Accordingly, the application is denied.

Signed in Washington, DC, this 14th day of April, 2015.
Michael W. Jaffe,
Certifying Officer, Office of Trade Adjustment Assistance.

[FR Doc. 2015-09659 Filed 4-24-15; 8:45 am]

BILLING CODE 4510-FN-P